DEPARTMENT OF TRANSPORTATION

Research and Special Programs Administration

Office of Hazardous Materials Safety; Notice of applications for exemptions

AGENCY: Research and Special Progrmas Administration, DOT.

ACTION: List of Applicants for Exemptions.

SUMMARY: In accordance with the procedures governing the application for, and the processing of, exemptions from the Department of Transportation's Hazardous Materials Regulations (49 CFR part 107, subpart B), notice is hereby given that the Office of Hazardous Materials Safety has received the applications described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before December 27, 2001.

ADDRESS COMMENTS TO: Records Center, Research and Special Programs Administration, U.S. Department of Transportation, Washington, DC 20590.

Comments should refer to the application number and be submitted in triplicate. If confirmation of receipt of comments is desired, include a self-addressed stamped postcard showing the exemption application number.

FOR FURTHER INFORMATION CONTACT: Copies of the applications (See Docket Number) are available for inspection at the New Docket Management Facility, PL-401, at the U.S. Department of Transportation, Nassif Building, 400 7th Street, SW., Washington, DC 20590 or at http://dms.dot.gov.

This notice of receipt of applications for new exemptions is published in accordance with Part 107 of the Federal hazardous materials transporation law (49 U.S.C. 5117(b); 49 CFR 1.53(b)).

Issued in Washington, DC, on November 20, 2001.
J. Suzanne Hedgepeth,
Director, Office of Hazardous Materials, Exemptions and Approvals.

New Exmeptions
Application No. | Docket No. | Applicant | Regulation(s) affected | Nature of exemption thereof
12858-N | RSPA-01-10977 | Union Carbide Corporation, South Charlestown, WV | 49 CFR 172.203, 179.13 | To authorize the transportation in commerce of a DOT specification 105J400W tank car having a gross weight on rail of 286,000 pounds, for use in transportation Division 2.1, 2.3, Poison-Inhalation Hazard/Zone D. (Mode 2)
12859-N | RSPA-01-10942 | Atlantic Research Corporation, Gainesville, VA | 49 CFR 173.320, 173.56(b), 173.56(e)(3) | To authorize the transportation in commerce of unapproved air bag inflators or air bag modules or seatbelt pretensioners, Division 1.4C in specially designed packaging. (Mode 1)

[FR Doc. 01-29476 Filed 11-26-01; 8:45 am]

BILLING CODE 4910-60-M